DEPARTMENT OF THE INTERIOR

Bureau of Land Management

[UTU 0148813 and UTU 0148813A]

Public Land Order No. 7543; Partial Revocation of Public Land Order No. 4774; Utah

AGENCY: Bureau of Land Management, Interior.

ACTION: Public Land Order.

SUMMARY: This order partially revokes a public land order insofar as it affects approximately 178 acres of National Forest System lands withdrawn for the Lodgepole, Hacking Lake, Yellow Pine, Beaver View, Upper Provo River Bridge, and Moosehorn Campgrounds and the Weber Cottonwood Picnic Ground. The withdrawal is no longer needed except on a portion of the lands withdrawn for the Lodgepole Campground. The lands included in the portion of the withdrawal being revoked will be opened to mining.

EFFECTIVE DATE: November 6, 2002.

FOR FURTHER INFORMATION CONTACT: Shelley Paige, Forest Service, Intermountain Region, 324-25th Street, Ogden, Utah 84401-2310, 801-625-5797.

SUPPLEMENTARY INFORMATION: The Forest Service has determined that the withdrawal is no longer needed on any of the lands except a portion of the Lodgepole Campground and has requested the revocation.

Order

By virtue of the authority vested in the Secretary of the Interior by section 204 of the Federal Land Policy and Management Act of 1976, 43 U.S.C. 1714 (1994), it is ordered as follows:

1. Public Land Order No. 4774, which withdrew lands for seven Forest Service recreation areas, is hereby revoked in its entirety except for the following described land:

Ashley National Forest

Lodgepole Campground

Salt Lake Meridian

T. 1 N., R. 22 E.,

Sec. 17, E½SE¼SW¼SW¼; sec.

Sec. 20, E½NE¼NW¼NW¼.

The area described contains 10 acres in Duchesne County.

2. At 10 a.m. on November 6, 2002, the lands described in Public Land Order No. 4774 (35 FR 4402, March 12, 1970), except those lands described in Paragraph 1, will be opened to location and entry under the United States mining laws, subject to valid existing rights, the provisions of existing withdrawals, other segregations of record, and the requirements of applicable law. Appropriation of any of the lands described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: September 20, 2002.
Rebecca W. Watson,
Assistant Secretary—Land and Minerals Management.

[FR Doc. 02-25437 Filed 10-4-02; 8:45 am]

BILLING CODE 3410-11-P